FEDERAL COMMUNICATIONS COMMISSION

47 CFR Part 73

[DA 02-3360; MB Docket No. 02-374; RM-10598]

Radio Broadcasting Services; Douglas, AZ, Santa Clara, NM and Tombstone, AZ

AGENCY: Federal Communications Commission.

ACTION: Proposed rule.

SUMMARY: This document requests comments on a petition for rule making filed on behalf of Cochise Broadcasting LLC, licensee of Station KCDQ, Channel 237A, Douglas, Arizona, requesting the substitution of Channel 237C for Channel 237A, the reallotment of Channel 237C to Tombstone, Arizona, and modification of its authorization accordingly. Additionally, to accommodate the requested allotment of Channel 237C to Tombstone, Cochise Broadcasting LLC requests the substitution of Channel 236C1 for Channel 237C1 at Santa Clara, New Mexico, and modification of the license for Station KNUW(FM) at its current transmitter site. An Order to Show Cause is issued to Mel-Mike Enterprises, Inc., licensee of Station KNUW(FM), as requested.

The petitioner's modification proposal complies with the provisions of section 1.420(i) of the Commission's Rules and therefore, we will not accept competing expressions of interest in the use of Channel 237C at Tombstone, Arizona. Coordinates used for Channel 237C at Tombstone are 31-49-00 NL and 110-05-30 WL. Coordinates used for proposed Channel 236C1 at Santa Clara, New Mexico, are those at the currently licensed site for Station KNUW(FM) at 32-51-47 NL and 108-14-28 WL.

DATES: Comments must be filed on or before January 30, 2003, and reply comments on or before February 14, 2003.

ADDRESSES: Secretary, Federal Communications Commission, Washington, DC 20554. In addition to filing comments with the FCC, interested parties should serve the petitioner's counsel, as follows: Mark N. Lipp, Esq., Shook, Hardy & Bacon, 600 14th Street, NW., Suite 800, Washington, DC 20005.

FOR FURTHER INFORMATION CONTACT: Nancy Joyner, Media Bureau, (202) 418-2180.

SUPPLEMENTARY INFORMATION: This is a synopsis of the Commission's Notice of Proposed Rule Making, MB Docket No. 02-365, adopted December 4, 2002, and released December 9, 2002. The full text of this Commission decision is available for inspection and copying during normal business hours in the FCC's Reference Information Center at Portals II, 445 Twelfth Street, SW., Room CY-A257, Washington, DC. The complete text of this decision may also be purchased from the Commission's copy contractor, Qualtex International, Portals II, 445 12th Street, SW., Room CY-B402, Washington, DC 20554, telephone (202) 863-2893, facsimile 202-863-2898, or via e-mail qualtexint@aol.com.

The provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. §§ 154, 303, 334 and 336.

§ 73.202 [Amended]

2. Section 73.202(b), the Table of FM Allotments under Arizona, is amended by removing Channel 237A at Douglas, and by adding Tombstone, Channel 237C.

3. Section 73.202(b), the Table of FM Allotments under New Mexico, is amended by removing Channel 237C1 at Santa Clara, and adding Channel 236C1.

Federal Communications Commission.
John A. Karousos,
Assistant Chief, Audio Division, Media Bureau.

[FR Doc. 02-32293 Filed 12-23-02; 8:45 am]

BILLING CODE 6712-01-P